NUCLEAR REGULATORY COMMISSION

Advisory Committee on Nuclear Waste; Notice of Amendment of Charter

AGENCY: Nuclear Regulatory Commission.

ACTION: This notice is to announce the amendment of the Charter of Advisory Committee on Nuclear Waste (ACNW).

SUPPLEMENTARY INFORMATION: The U.S. Nuclear Regulatory Commission (NRC) is planning to amend the Charter for the Advisory Committee on Nuclear Waste. The changes in the Charter wording are intended to more accurately reflect the Committee's current efforts, as well as prospective activities noted in its Action Plan. The changes recognize the wide range of activities undertaken by the Committee in materials-related issues of interest to the Commission. This action is being taken in accordance with the Federal Advisory Committee Act, after consultation with the Committee Management Secretariat, General Services Administration.

Under the amended charter the Committee's objectives, scope of activities and duties are as follows: (underlined material added, strikeout deleted.)

The Committee shall report to and advise the Nuclear Regulatory Commission (NRC) on nuclear materials and waste management. The bases of ACNW reviews include 10 CFR parts 20, 40, 50, 60, 61, 63, 70, 71 and 72, and other closely related regulations and legislative mandates. In performing its work, the Committee will examine and report on those areas of concern referred to it by the Commission and may undertake studies and activities on its own initiative, as appropriate. Emphasis will be on protecting the public health and safety in the disposal of nuclear waste and the handling and processing of nuclear materials. The Committee will undertake studies and activities related to nuclear materials and waste management such as transportation, storage and disposal facilities, the effects of low levels of ionizing radiation, decommissioning, materials safety, application of risk-informed, performance-based regulations, and evaluation of licensing documents, rules and regulatory guidance. The Committee will interact with representatives of the public, NRC, ACRS, other Federal agencies, State and local agencies, Indian Tribes, and private, international and other organizations as appropriate to fulfill its responsibilities.

FOR FURTHER INFORMATION CONTACT: John T. Larkins, Executive Director of the Committee, U.S. Nuclear Regulatory Commission, Washington, DC 20555, telephone (301) 415-7360.

Dated: June 5, 2002.
Andrew L. Bates,
Federal Advisory Committee, Management Officer.

[FR Doc. 02-14621 Filed 6-10-02; 8:45 am]

BILLING CODE 7590-01-P